DEPARTMENT OF THE TREASURY

Submission for OMB Review; Comment Request

August 7, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 11, 2006 to be assured of consideration.

Internal Revenue Service (IRS)

OMB Number: 1545-1835.

Type of Review: Extension.

Title: Form 637 Questionnaires.

Form: 637.

Description: Form 637 Questionnaires are used to collect information about persons who are registered with the Internal Revenue Service (IRS) in accordance with Internal Revenue Code (IRC) Sec. 4104 or 4222. The information will be used to make an informed decision on whether the applicant/registrant qualifies for registration.

Respondents: Business and other for-profit institutions.

Estimated Total Burden Hours: 3,479 hours.

OMB Number: 1545-2010.

Type of Review: Extension.

Title: Employer's Annual Federal Tax Return (American Samoa, Guam, the Commonwealth of the Northern Mariana Islands, and the U.S. Virgin Islands).

Form: 944-SS and 944-PR.

Description: Form 944-SS and Form 944-PR are designed so the smallest employers (those whose annual liability for social security and Medicare taxes is $1,000 or less) will have to file and pay these taxes only once a year instead of every quarter.

Respondents: Business and other for-profit institutions.

Estimated Total Burden Hours: 191,200 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-13152 Filed 8-10-06; 8:45 am]

BILLING CODE 4830-01-P